DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its collection, titled “Assistance to Foreign Atomic Energy Activities”, OMB Control Number 1901-0263.

DATES: Comments regarding this proposed information collection must be received on or before May 9, 2022. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Additional information on DOE's regulation of assistance to foreign atomic energy activities pursuant to 10 CFR part 810 is available at www.energy.gov/nnsa/10-cfr-part-810. For other questions, contact Katie Strangis, Deputy Director, Office of Nonproliferation and Arms Control, NA-24, National Nuclear Security Administration, Department of Energy, 1000 Independence Avenue SW, Room 7F-075, Washington, DC 20585, telephone (202) 586-8623.

SUPPLEMENTARY INFORMATION: This information collection request contains:

(1) OMB No.: 1901-0263;

(2) Information Collection Request Title: Assistance to Foreign Atomic Energy Activities;

(3) Type of Request: Extension;

(4) Purpose: This collection of information is necessary in order to provide the Secretary of Energy with the appropriate information needed to make informed determinations regarding requests to directly or indirectly engage or participate in the development or production of special nuclear material outside the United States;

(5) Annual Estimated Number of Respondents: 105;

(6) Annual Estimated Number of Total Responses: 869;

(7) Annual Estimated Number of Burden Hours: 1872;

(8) Annual Estimated Reporting and Recordkeeping Cost Burden: $183,540.

Statutory Authority: Section 57 b.(2) of the Atomic Energy Act (AEA) of 1954 and Section 161(c) of the AEA.

Signing Authority

This document of the Department of Energy was signed on April 4, 2022, by Corey Hinderstein, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 5, 2022.
Treena V. Garrett,
Federal Register Liaison Officer, U.S. Department of Energy.

[FR Doc. 2022-07547 Filed 4-7-22; 8:45 am]

BILLING CODE 6450-01-P